DEPARTMENT OF TRANSPORTATION

Research and Special Programs Administration

[Docket No. RSPA-99-6355]

Pipeline Safety: Pipeline Integrity Management in High Consequence Areas (Hazardous Liquid Operators With 500 or More Miles of Pipeline)

AGENCY: Office of Pipeline Safety (OPS), Research and Special Programs Administration (RSPA), Department of Transportation (DOT).

ACTION: Notice of workshop.

SUMMARY: This notice announces a two-day workshop on OPS's findings from inspections conducted from February through April 2002 to evaluate operators' compliance with 49 CFR part 195.452, “Pipeline Integrity Management in High Consequence Areas,” effective May 29, 2001. On day 1, OPS will present its assessment of operators' progress identifying pipeline segments that could affect high consequence areas (HCAs). The deadline for completing these identifications was December 31, 2001. OPS will also comment on its plans for conducting the Comprehensive Integrity Management Program Inspections, set to begin in August 2002. On day 2, OPS will provide a forum for the pipeline industry to share and discuss noteworthy integrity management practices that achieve compliance with the rule. Emphasis will be in areas in which OPS believes improvement is needed.

Workshop Dates and Addresses: The workshop will be on July 23, 2002, from 8 a.m. to 5 p.m., and July 24, 2002, from 8 a.m. to noon, at the J.W. Marriott Hotel, 5150 Westheimer Road, Houston, Texas 77056 (tel: 713-961-1500 fax: 713-961-5045). No later than June 10, 2002, rooms may be reserved within a block identified as “USDOT/IMP Meeting Block”.

Registration and Further Information: For event planning purposes, we request that you please register via the instructions given at http://primis.rspa.dot.gov/meetings/Mtg3.mtg. The website provides links to other useful information (including a meeting agenda, once available) and enables viewers to submit questions to OPS about the workshop.

SUPPLEMENTARY INFORMATION:

1. Background

OPS's integrity management initiative is intended to improve safety and environmental protection and to provide better assurance to the public about the safety of pipelines. It is also intended to comprehensively address National Transportation Safety Board recommendations, Congressional mandates and pipeline safety and environmental issues raised over the years. It is based on the culmination of experience OPS has gained from pipeline inspections, accident investigations and risk management and system integrity initiatives.

OPS's first integrity management rule (65 FR 75378), issued on November 2, 2000, and effective on May 29, 2001, applies to hazardous liquid operators who own or operate 500 or more miles of pipeline. The rule applies to pipelines that can affect HCAs, which include populated areas defined by the Census Bureau as urbanized areas or places, unusually sensitive environmental areas, and commercially navigable waterways.

Between February and April 2002, OPS inspected all affected operators to evaluate their compliance with the rule's first deadline requiring identification by December 31, 2001, of all pipeline segments that can affect HCAs. OPS also conducted a preliminary assessment of operators' readiness to comply with the rule's March 31, 2002, deadline to implement an integrity management program. OPS will begin more comprehensive inspections addressing the March 31 deadline in August 2002.

OPS is conducting this workshop to assist operators in learning where improvement in integrity management is needed, and what means are available to achieve these improvements. Because the new rule requires fundamental change in the integrity management practices of many affected pipeline operators, OPS's enforcement approach will encourage and monitor continuous improvement in operator compliance with the rule's provisions.

Issued in Washington, DC, on May 3, 2002.
Stacey L. Gerard,
Associate Administrator for Pipeline Safety.

[FR Doc. 02-11620 Filed 5-8-02; 8:45 am]

BILLING CODE 4910-60-P